DEPARTMENT OF HEALTH AND HUMAN SERVICES

Office of the National Coordinator for Health Information Technology; American Health Information Community Meeting

ACTION: Amendment of meeting announcement, dated November 28, 2006.

SUMMARY: This notice amends the announcement of the tenth meeting of the American Health Information Community in accordance with the Federal Advisory Committee Act (Pub. L. 92-463, 5 U.S.C., App.) The American Health Information Community will advise the Secretary and recommend specific actions to achieve a common interoperability framework for health information technology (IT).

DATES: December 12, 2006, from 8:30 to 11:30 a.m.

Meeting Format: This meeting was originally scheduled to be held in the Hubert H. Humphrey Building (200 Independence Avenue, SW., Washington, DC 20201), Conference Room 800. However, the meeting format has been changed to provide remote participation only (Web cast and/or telephone) for the Community members, HHS staff, invited presenters, and general public. A time period will be allotted before the conclusion of the meeting for the general public to deliver brief (3 minutes or less) oral public comment.

SUPPLEMENTARY INFORMATION: The agenda includes an update on the Personalized Healthcare Workgroup; a panel discussion on the American Health Information Management Association's State Steering Committee Recommendations; and an update on the National Health Information Network (NHIN). The instructions to participate remotely (Web cast and/or telephone) can be found at http://www.hhs.gov/healthit/m20061212.html. If you have any questions concerning the remote instructions or meeting format, please call (866) 505-3500.

Dated: November 30, 2006.
Judith Sparrow,
Director, American Health Information Community, Office of Programs and Coordination, Office of the National Coordinator for Health Information Technology.

[FR Doc. 06-9549 Filed 12-5-06; 8:45 am]

BILLING CODE 4150-24-M